DEPARTMENT OF TRANSPORTATION

Federal Highway Administration

Environmental Impact Statement: Cities of South Lake Tahoe, CA and Stateline, NV

AGENCY: Federal Highway Administration (FHWA), DOT.

ACTION: Notice of Intent.

SUMMARY: The FHWA is issuing this notice to advise the public that an Environmental Impact Statement will be prepared for a proposed highway realignment project on US Highway 50 (US 50) in the Cities of South Lake Tahoe, California and Stateline, Nevada.

FOR FURTHER INFORMATION CONTACT: Cesar Perez, Senior Transportation Engineer, Federal Highway Administration, 650 Capitol Mall, Suite 4-100, Sacramento, California 95814, telephone (916) 498-5065.

Suzanne Melim, Senior Environmental Coordinator, California Department of Transportation, 703 B Street, P.O. Box 911, Marysville, CA 95901, telephone (530) 741-4484.

Steve Cooke, Chief, Nevada Department of Transportation, 1263 S. Stewart Street, Carson City, NV 89712, telephone; (775) 888-7686.

SUPPLEMENTARY INFORMATION: The California and Nevada Divisions of FHWA, in cooperation with the California Department of Transportation (Caltrans), the Nevada Department of Transportation (NDOT), the Tahoe Transportation District, and the Tahoe Regional Planning Agency (TRPA), will prepare an Environmental Impact Statement (EIS) on a proposal to realign US Highway 50 (US 50) around the Stateline casino corridor area and convert the existing US 50 roadway, between Pioneer Trail in California and Lake Parkway in Nevada into a two-lane roadway. The California Division FHWA, in cooperation with Nevada FHWA, will serve as the lead Federal agency for compliance with the National Environmental Policy Act. The joint document will also serve as environmental compliance with the California Environmental Quality Act (Environmental Impact Report) and TRPA's own EIS requirements. The work includes converting the existing US 50 into a two-lane roadway (one travel lane in each direction). Additional work may include a center median, landscaping and turn pockets at major driveways and intersections. Expanded sidewalks and bicycle lanes are proposed to be constructed in this section within the casino corridor to improve pedestrian safety and encourage use of alternative transportation modes, and traffic signals would be installed and synchronized to improve the flow of traffic. The affected segment of existing US 50 is approximately 1.1 miles long.

The proposed action involves realigning US 50 from its intersection at Lake Parkway in Nevada along Lake Parkway on the mountain (southeast) side of the Stateline casino corridor area behind Montbleu and Harrah's casinos. West of the casinos, the realigned US 50 would continue behind (south of) Heavenly Village Center (Raley's Shopping Center) and then along a new alignment between Fern and Echo Roads, rejoining the existing US 50 at its intersection with Pioneer Trail in California. The proposed new US 50 alignment would be four lanes (two travel lanes in each direction) with left-turn pockets at intersections. One Build Alternative includes a new, two-lane roundabout at the intersection of US 50 and Lake Parkway in Stateline, Nevada. The other Build Alternative under consideration would have a signalized intersection rather than a roundabout. A number of other Build Alternatives have been investigated, but have not been carried through for additional consideration. These alternatives and evaluations will be fully disclosed in the EIS.

The realignment of US 50 is considered necessary to: (1) Improve pedestrian safety, mobility, and multi-modal transportation options to accommodate increased pedestrian traffic created by existing and proposed resort development in the project area; (2) help achieve TRPA's adopted environmental threshold carrying capacities and TRPA, Nevada Department of Environmental Protection (NDEP) and Lahontan Regional Water Quality Control Board (LRWQCB) regulations and requirements, while enhancing the community and tourism experience; and (3) mitigate severe summer and winter peak period traffic congestion along US 50 in the project area by achieving and maintaining acceptable Levels of Service for existing and future traffic demand. The EIS will also address the intent of the Loop Road System concept described in Article V(2) of the Tahoe Regional Planning Compact (Pub. L. 96-551), 1980 and incorporate the various regional and local plans for the area including the Lake Tahoe Regional Transportation Plan, the Lake Tahoe Environmental Improvement Program, and Stateline/Ski Run Community Plan

Alternatives under consideration include (1) Taking no action; (2) a Build Alternative with a roundabout at Lake Parkway in Stateline and (3) a Build Alternative that it would install a signalized intersection at the intersection of US 50 and Lake Parkway instead of a roundabout; and (4) potentially one or more additional Build Alternatives identified in the scoping or environmental evaluation process that will address identified impacts and achieve project goals. Grade and alignment design variations will be incorporated into and studied with the build alternatives' footprints.

Notices describing the proposed action and soliciting comments will be sent to appropriate Federal, State, and local agencies, and to private organizations and citizens who have previously expressed or are known to have interest in this proposal. Two public scoping meetings will be held in November and December 2011. At least two public hearings on the draft EIS will also be held. The draft EIS will be available for public and agency review and comment prior to the hearings. Public notices giving the time and place of the meetings and hearings will be widely circulated, including notification in locally prominent media.

To ensure that the full range of issues related to this proposed action are addressed and all significant issues identified, comments and suggestions are invited from all interested parties. Comments and questions concerning this proposed action and the EIS should be directed to the FHWA, NDOT, and/or Caltrans at the addresses provided above.

(Catalog of Federal Domestic Assistance Program Number 20.205, Highway Planning and Construction. The regulations implementing Executive Order 12372 regarding intergovernmental consultation on Federal programs and activities apply to this program.)

Authority: 42 U.S.C. 4321 et seq., 49 CFR 1.48(d)(17), and 40 CFR 1501.7.

Issued on: October 26, 2011.
Steve Pyburn,
Senior Transportation Engineer, Federal Highway Administration, Sacramento, California.

[FR Doc. 2011-28232 Filed 10-31-11; 8:45 am]

BILLING CODE 4910-22-P